DEPARTMENT OF COMMERCE

National Institute of Standards and Technology

Open Meeting of the Information Security and Privacy Advisory Board

AGENCY: National Institute of Standards and Technology, Department of Commerce.

ACTION: Notice of open meeting.

SUMMARY: The Information Security and Privacy Advisory Board (ISPAB) will meet Wednesday, March 09, 2022 and Thursday, March 10, 2022 from 10:00 a.m. until 4:30 p.m., Eastern Time. All sessions will be open to the public.

DATES: The meeting will be held on Wednesday, March 09, 2022 and Thursday, March 10, 2022 from 10:00 a.m. until 4:30 p.m., Eastern Time.

ADDRESSES: The meeting will be a virtual meeting via webinar. Please note admittance instructions under the SUPPLEMENTARY INFORMATION section of this notice.

FOR FURTHER INFORMATION CONTACT: Jeff Brewer, Information Technology Laboratory, National Institute of Standards and Technology, Telephone: (301) 975-2489, Email address: jeffrey.brewer@nist.gov.

SUPPLEMENTARY INFORMATION: Pursuant to the Federal Advisory Committee Act, as amended, 5 U.S.C. App., notice is hereby given that the ISPAB will hold an open meeting Wednesday, March 09, 2022 and Thursday, March 10, 2022 from 10:00 a.m. until 4:30 p.m., Eastern Time. All sessions will be open to the public. The ISPAB is authorized by 15 U.S.C. 278g-4, as amended, and advises the National Institute of Standards and Technology (NIST), the Secretary of Homeland Security, and the Director of the Office of Management and Budget (OMB) on information security and privacy issues pertaining to Federal government information systems, including through review of proposed standards and guidelines developed by NIST. Details regarding the ISPAB's activities are available at https://csrc.nist.gov/projects/ispab.

The agenda is expected to include the following items:

—Briefing from NIST on recent activities from the Information Technology Laboratory,

—Presentation from NIST on the Artificial Intelligence Risk Management Framework,

—Discussion on Cryptographic Brittleness and issues in implementations,

—Presentation from NIST on Open Source Cybersecurity Assessment Language (OSCAL),

—Discussion on the United States Government participation in National and International Standards Development Organizations,

—Briefing on NIST Cybersecurity Updates,

—Public Comments.

Note that agenda items may change without notice. The final agenda will be posted on the ISPAB event page at: https://csrc.nist.gov/Events/2022/ispab-march-2022-meeting.

Public Participation: Written questions or comments from the public are invited and may be submitted electronically by email to Jeff Brewer at the contact information indicated in the FOR FURTHER INFORMATION CONTACT section of this notice by 5 p.m. on Tuesday, March 08, 2022.

The ISPAB agenda will include a period, not to exceed thirty minutes, for submitted questions or comments from the public between 3:30 p.m. and 4:00 p.m. on Wednesday, March 09, 2022. Submitted questions or comments from the public will be selected on a first-come, first-served basis and limited to five minutes per person.

Members of the public who wish to expand upon their submitted statements, those who had wished to submit a question or comment but could not be accommodated on the agenda, and those who were unable to attend the meeting via webinar are invited to submit written statements. In addition, written statements are invited and may be submitted to the ISPAB at any time. All written statements should be directed to the ISPAB Secretariat, Information Technology Laboratory by email to: Jeffrey.Brewer@nist.gov.

Admittance Instructions: All participants will be attending via webinar and must register via the instructions found on ISPAB's event page at: https://csrc.nist.gov/Events/2022/ispab-march-2022-meeting by 5 p.m. Eastern Time, Tuesday, March 08, 2022.

Alicia Chambers,
NIST Executive Secretariat.

[FR Doc. 2022-02064 Filed 2-1-22; 8:45 am]

BILLING CODE 3510-13-P